DEPARTMENT OF COMMERCE

National Oceanic and Atmospheric Administration

[I.D. 031105D]

Endangered Fish and Wildlife; Marine Mammal Protection Act; Draft Conservation Plan for the Cook Inlet Stock of Beluga Whales; Reopening of Comment Period

AGENCY: National Marine Fisheries Service (NMFS), National Oceanic and Atmospheric Administration (NOAA), Commerce.

ACTION: Notice of availability of draft conservation plan; reopening of public comment period.

SUMMARY: NMFS is reopening the comment period for the draft conservation plan for Cook Inlet beluga whales. The initial comment period ended May 16, 2005. The draft conservation plan is intended to promote the conservation and recovery of these whales so they are no longer considered depleted under the Marine Mammal Protection Act.

DATES: Written comments and information must be received by June 27, 2005.

ADDRESSES: Copies of the draft conservation plan may be reviewed and/or copied at NMFS, Protected Resources Division, 222 W. 7th Ave., (room 517), Anchorage, AK 99513; or at the NMFS Alaska Regional Office, Protected Resources Division, 709 W. 9th St., P.O. Box 21668, Juneau, AK 99802. It is available on the Internet at the following address: http://www.fakr.noaa.gov/protectedresources/whales/beluga.htm.

Comments on the draft conservation plan should be sent to the above addresses or may be submitted by email to the following address: CIB-CP-NOA@noaa.gov. Please identify electronic comments with the subject line: Beluga Whale Conservation Plan.

FOR FURTHER INFORMATION CONTACT: Kaja Brix, NOAA/NMFS, Alaska Region, (907)586-7235, or Brad Smith, NOAA/NMFS, Alaska Region, Anchorage Field Office, (907)271-5006.

SUPPLEMENTARY INFORMATION: On March 16, 2005, NMFS announced the availability of a draft conservation plan for Cook Inlet beluga whales for public review and comment (70 FR 12853). The comment period for the draft plan ended May 16, 2005. During the comment period, several parties requested additional time to review the document and develop comments. Pursuant to these requests, NMFS is reopening the comment period for the draft plan for an additional 30-day period.

Dated: May 23, 2005.
P. Michael Payne,
Acting Deputy Director, Office of Protected Resources, National Marine Fisheries Service.

[FR Doc. 05-10668 Filed 5-26-05; 8:45 am]

BILLING CODE 3510-22-S